DEPARTMENT OF HEALTH AND HUMAN SERVICES

National Institutes of Health

National Heart, Lung, and Blood Institute; Amended Notice of Meeting

Notice is hereby given of a change in the meeting of the National Heart, Lung, and Blood Institute Special Emphasis Panel, February 23, 2007, 8:30 a.m. to February 23, 2007, 3 p.m., Embassy Suites Hotel Washington Convention Ctr., Washington, DC 20001 which was published in the Federal Register on January 12, 2007, FR 07-100.

The February 23, 2007 Meeting Panel Name was changed from Modified Hemoglobin Production to VAD Technologies. The meeting is closed to the public.

Dated: January 24, 2007.
Anna Snouffer,
Acting Director, Office of Federal Advisory Committee Policy.

[FR Doc. 07-397 Filed 1-30-07; 8:45 am]

BILLING CODE 4140-01-M